DEPARTMENT OF THE INTERIOR

Office of Natural Resources Revenue

[Docket No. ONRR-2011-0012; DS63644000 DRT000000.CH7000 201D1113RT]

Major Portion Prices and Due Date for Additional Royalty Payments on Indian Gas Production in Designated Areas That Are Not Associated With an Index Zone

AGENCY: Office of Natural Resources Revenue, Interior.

ACTION: Notice.

SUMMARY: In accordance with the regulations governing valuation of gas produced from Indian leases, the Office of Natural Resources Revenue (ONRR) is publishing this notice in the Federal Register to notify industry of ONRR's determination of the major portion prices applicable to calendar year 2018 and the date by which a lessee must pay any additional royalties due under major portion pricing.

DATES: The due date to pay additional royalties based on the major portion prices is October 5, 2020.

FOR FURTHER INFORMATION CONTACT: Calculation of Prices Information: Robert Sudar, Manager, Market & Spatial Analytics, ONRR, at (303) 231-3511, or email to Robert.Sudar@onrr.gov; mailing address—Office of Natural Resources Revenue, P.O. Box 25165, MS 64310B, Denver, Colorado 80225-0165.

Reporting Information: Lee-Ann Martin, Program Manager, Reference & Reporting Management, ONRR, at (303) 231-3313, or email to Leeann.Martin@onrr.gov; mailing address—Office of Natural Resources Revenue, P.O. Box 25165, MS 63300B, Denver, Colorado 80225-0165.

SUPPLEMENTARY INFORMATION: The Minerals Management Service (MMS), published a final rule titled “Amendments to Gas Valuation Regulations for Indian Leases,” which became effective January 1, 2000, 64 FR 43506, (Aug. 10, 1999). Those gas valuation regulations apply to all Indian (Tribal or allotted) oil and gas leases except for leases on the Osage Indian Reservation. Secretarial Order 3299, as amended on August 29, 2011, created ONRR and delegated to it the “royalty and revenue management function of the Minerals Management Service.”

The regulations require ONRR to publish major portion prices for each designated area that is not associated with an index zone for each production month, as well as the due date to submit any additional royalty payments. 30 CFR 1206.174(a)(4)(ii). If you owe additional royalties based on a published major portion price, you must submit to ONRR, by the due date, an amended form ONRR-2014, Report of Sales and Royalty Remittance. If you fail to pay the additional royalties by the due date, late payment interest will begin to accrue as set forth under 30 CFR 1218.54. Late payment interest will accrue from the due date established by this Notice until ONRR receives your payment. The table below lists major portion prices for all designated areas that are not associated with an index zone. The due date is the end of the month, following 60 days after the publication date of this notice in the Federal Register.

Gas Major Portion Prices ($/MMBtu) for Designated Areas Not Associated With an Index Zone
ONRR-designated areas | Jan. 2018 | Feb. 2018 | Mar. 2018 | Apr. 2018
Fort Belknap Reservation | $2.34 | $2.59 | $2.02 | $1.68
Fort Berthold Reservation | 2.91 | 3.32 | 2.25 | 2.22
Fort Peck Reservation | 3.75 | 4.79 | 2.43 | 2.73
Navajo Allotted Leases in the Navajo Reservation | 2.55 | 2.58 | 2.00 | 1.64
Turtle Mountain Reservation | 3.33 | 3.40 | 2.23 | 2.24

ONRR-designated areas | May 2018 | Jun. 2018 | Jul. 2018 | Aug. 2018
Fort Belknap Reservation | $1.70 | $1.89 | $2.00 | $2.13
Fort Berthold Reservation | 2.07 | 2.44 | 2.43 | 2.56
Fort Peck Reservation | 3.03 | 2.85 | 3.20 | 3.07
Navajo Allotted Leases in the Navajo Reservation | 1.72 | 1.96 | 2.13 | 2.31
Turtle Mountain Reservation | 2.06 | 2.15 | 2.27 | 2.26

ONRR-designated areas | Sep. 2018 | Oct. 2018 | Nov. 2018 | Dec. 2018
Fort Belknap Reservation | $2.07 | $2.03 | $2.92 | $5.51
Fort Berthold Reservation | 2.52 | 2.61 | 2.95 | 3.59
Fort Peck Reservation | 3.44 | 3.66 | 3.40 | 4.98
Navajo Allotted Leases in the Navajo Reservation | 2.13 | 2.03 | 2.34 | 3.35
Turtle Mountain Reservation | 2.27 | 2.46 | 2.93 | 4.29

For information on how to report additional royalties due to major portion prices, please refer to ONRR's Dear Payor letter, dated December 1, 1999, which is available on ONRR's website at http://www.onrr.gov/ReportPay/PDFDocs/991201.pdf.

Authorities: Indian Mineral Leasing Act, 25 U.S.C. 396a-g and the Act of March 3, 1909, 25 U.S.C. 396; Indian Mineral Development Act of 1982, 25 U.S.C. 2103 et seq.; Federal Oil and Gas Royalty Management Act of 1982, 30 U.S.C. 1701 et seq.

Kimbra G. Davis,
Director, Office of Natural Resources Revenue.

[FR Doc. 2020-16902 Filed 8-3-20; 8:45 am]

BILLING CODE 4335-30-P